DEPARTMENT OF AGRICULTURE

Forest Service

Integrated Resource Contracts FS-2400-13 and FS-2400-13T

AGENCY: Forest Service, USDA.

ACTION: Notice; correction.

SUMMARY: The Forest Service published, on October 5, 2004 (69 FR 59577), a notice implementing interim Integrated Resource Contracts, FS-2400-13, for use when timber products are measured after harvest, and FS-2400-13T, for use when timber products are measured before harvest. The statement that the interim contracts became effective immediately upon publication of the notice in the Federal Register was inadvertently omitted.

FOR FURTHER INFORMATION CONTACT: Richard Fitzgerald, Forest Management Staff, (202) 205-1753, or Lathrop Smith, Forest Management Staff, (202) 205-0858.

Correction: In the Federal Register issue of October 5, 2004, in FR 04-22338, page 59577, in the first column, the DATES section is corrected to read as follows:

DATES: Effective Date: The interim Integrated Resource Contracts FS-2400-13 and FS-2400-13T are effective on October 5, 2004.

Comment Date: Comments must be received in writing on or before November 4, 2004.

ADDRESSES: Send written comments by mail to USDA Forest Service, Director Forest Management, 1400 Independence Avenue, SW., Mail Stop 1103, Washington, DC 20250-0003; via e-mail to: integratedresourcecontracts@fs.fed.us; or via facsimile to (202) 205-1045. Comments may also be submitted via the World Wide Web Internet Web site at: http://www.regulations.gov. All comments including names and addresses when provided are placed in the record and are available for public inspection and copying. The interim Integrated Resource Contracts are available for public review on the Forest Service World Wide Web/Internet site at: http://www.fs.fed.us/forestmanagement/projects/stewardship/contracts. Alternatively, these can be viewed in the office of the Director of Forest Management, Third Floor, Northwest Wing, Yates Building, 201 14th Street, SW., Washington, DC. Visitors are encouraged to call ahead to (202) 205-0893 to facilitate entry into the building.

Dated: October 5, 2004.
Frederick Norbury,
Associate Deputy Chief, National Forest System.

[FR Doc. 04-22869 Filed 10-8-04; 8:45 am]

BILLING CODE 3410-11-P